ENVIRONMENTAL PROTECTION AGENCY

[FRL-6950-7]

Agency Information Collection Activities: Submission for OMB Review; Comment Request, Certification and Averaging, Banking, and Trading Program for Non-Road Spark-Ignition Engines At or Below 19 Kilowatts

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Certification and Averaging, Banking, and Trading Program for Non-road Spark-Ignition Engines At or Below 19 Kilowatts, OMB Control Number 2060-0338, expiration date February 28, 2001. The ICR describes the nature of the information collection and its expected burden and cost; where appropriate, it includes the actual data collection instrument.

DATES: Comments must be submitted on or before April 9, 2001.

ADDRESSES: Send comments, referencing EPA ICR No. 1695.07 and OMB Control No. 2060-0338, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1695.07. For technical questions about the ICR contact Joe Hresko at 202-564-9275.

SUPPLEMENTARY INFORMATION: Title: Certification and Averaging, Banking, and Trading Program for Non-road Spark-Ignition Engines At or Below 19 Kilowatts, OMB Control Number 2060-0338, EPA ICR Number 1695.07, expiration date February 28, 2001. This is a request for extension of a currently approved collection.

Abstract: This request is a renewal of an existing ICR (OMB #2060-0338) which covers applications for engine emission certification and the Averaging, Banking, and Trading (ABT) program by manufacturers of Spark Ignition (SI) nonroad engines. The information to be collected consists of descriptions of engine emission control systems, test results and sales information. This data is reviewed to verify that necessary tests have been performed and the manufacturers' product lines meet emission standards. The emission values achieved during certification testing greatly influences the ABT credits for an engine family. For example, if a manufacturer does a certification test for an engine and gets a value of 10 for a pollutant. It is common for a manufacturer to use this value in ABT calculations. Manufacturers electing to participate in the ABT are also required to submit information regarding the calculation, actual generation and usage of credits in the certification application, and final report. These reports are used for certification and enforcement purposes. Manufacturers will also maintain records for eight years on the engine families included in the program. For clarification purposes, throughout this ICR Supporting Statement the category of nonroad SI engines is comprised of non-handheld engines and handheld engines. It has been estimated that a total of 54 manufacturers will respond to this collection with an approximate cost of $6,573,440.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on December 11, 2000 (65 FR 77373); no comments were received.

Burden Statement: The annual public reporting and recordkeeping burden for this collection of information is estimated to average 73 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Non-road SI Engine Manufacturers.

Estimated Number of Respondents: 54.

Frequency of Response: Bi-annually, Annually.

Estimated Total Annual Hour Burden: 47,736.

Estimated Total Annualized Capital, O&M Cost Burden: $3,240,000.

Send comments on the Agency's need for this information, the accuracy of the provided burden estimates, and any suggested methods for minimizing respondent burden, including through the use of automated collection techniques to the addresses listed above. Please refer to EPA ICR No. 1695.07 and OMB Control No. 2060-0338 in any correspondence.

Dated: February 27, 2001.
Oscar Morales,
Director, Collection Strategies Division.

[FR Doc. 01-5860 Filed 3-8-01; 8:45 am]

BILLING CODE 6560-50-P